FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011284-055.

Title: Ocean Carrier Equipment Management Association Agreement (“OCEMA”).

Parties: APL Co. Pte. Ltd.; American President Lines, Ltd.; A.P. Moller-Maersk A/S, trading under the name of Maersk Sealand; CMA CGM, S.A.; Compania Sudamericana deVapores, S.A.; Evergreen Marine Corp. (Taiwan) Ltd.; Hanjin Shipping Co., Ltd.; Hamburg-Südamerikanische Dampfschifffahrts-Gesellschaft KG; Hapag-Lloyd Container Linie GmbH; Hyundai Merchant Marine Co. Ltd.; Mitsui O.S.K. Lines Ltd.; Lykes Lines Limited, LLC; TMM Lines Limited, LLC; Contship Containerlines, a division of CP Ships (UK) Limited; Australia-New Zealand Direct Line, a division of CP Ships (UK) Limited; Orient Overseas Container Line Limited; P&O Nedlloyd Limited; P&O Nedlloyd B.V.; Nippon Yusen Kaisha Line; Yangming Marine Transport Corp.; COSCO Containerlines Company Limited; Kawasaki Kisen Kaisha, Ltd.; and Crowley Maritime Corporation.

Synopsis: The agreement modification adds Atlantic Container Line as a party to the agreement.

Agreement No.: 011884.

Title: Hampton Road Chassis Pool II Agreement.

Parties: Virginia International Terminals, Inc., and the Ocean Carrier Equipment Management Association, for itself and on behalf of the following of its member lines: APL Co. Pte. Ltd.; American President Lines, Ltd.; Atlantic Container Line; Australia-New Zealand Direct Line, a division of CP Ships (UK) Limited; CMA CGM, S.A.; Compania Sudamericana de Vapores, S.A.; Contship Containerlines, a division of CP Ships (UK) Limited; COSCO Containerlines Company Limited; Evergreen Marine Corp. (Taiwan) Ltd.; Hanjin Shipping Co., Ltd.; Hamburg-Südamerikanische Dampfschifffahrts-Gesellschaft KG; Hapag-Lloyd Container Linie GmbH; Hyundai Merchant Marine Co. Ltd.; Kawasaki Kisen Kaisha, Ltd.; Lykes Lines Limited, LLC; Mitsui O.S.K. Lines Ltd.; Nippon Yusen Kaisha Line; Orient Overseas Container Line Limited; P&O Nedlloyd Limited; P&O Nedlloyd B.V.; TMM Lines Limited, LLC; and Yangming Marine Transport Corp.

Synopsis: The proposed agreement would authorize the establishment of a chassis pool at the Port of Hampton Roads, Virginia, at various terminals and related facilities operated by Virginia International Terminals. The parties request expedited review.

Agreement No.: 201143-004.

Title: West Coast MTO Agreement.

Parties: APM Terminals Pacific; California United Terminals, Inc.; Eagle Marine Services, Ltd.; Husky Terminals, Inc.; International Transportation Service, Inc,; Long Beach Container Terminal, Inc.; Marine Terminals Corp.; Metropolitan Stevedore Company; Pasha Stevedoring & Terminals, L.P.; Trans Bay Container Terminal, Inc.; Trans Pacific Container Service Corporation; Yusen Terminals, Inc.; SSA Marine (for itself and its marine terminal operator affiliates Pacific Maritime Services, L.L.C. and SSA Terminal (Long Beach), LLC).

Synopsis: The agreement is a restatement of the West Coast MTO Discussion Agreement (FMC Agreement No. 201143). The amendment changes the name of the agreement and adds authority to discuss, agree upon, implement and enforce rules, procedures and charges intended to encourage the use of off-peak hour services, as well as to adopt and implement related procedural and administrative mechanisms. It provides procedures for the members to be bound by and/or opt out of agreement decisions and provides for the posting of financial security and resolution of disputes by arbitration. The amendment clarifies the financial obligations of the parties and the voting requirements for action under the agreement. The parties request expedited review.

Dated: June 10, 2004.
By Order of the Federal Maritime Commission.
Bryant L. VanBrakle,
Secretary.

[FR Doc. 04-13594 Filed 6-16-04; 8:45 am]

BILLING CODE 6730-01-P